POSTAL SERVICE

39 CFR Parts 265 and 266

Release of Information, Privacy of Information

AGENCY: Postal Service.

ACTION: Final rule.

SUMMARY: This rule amends the Postal Service regulations on the release of information and the privacy of information to correct provisions overlooked in a previous general revision of the rules dealing with records and information.

DATES: Effective Date: June 23, 2004.

FOR FURTHER INFORMATION CONTACT: Jane Eyre at 202-268-2608.

SUPPLEMENTARY INFORMATION: On October 1, 2003, the Postal Service published a general revision of its rules dealing with records and information (68 FR 56557). This revision updated terminology to reflect the Postal Service's current organizational structure, removed obsolete or duplicative provisions, and revised the fee schedule for disclosure of information where necessary. Further inspection of the affected provisions indicates that minor additional revisions are necessary to remedy oversights in the previous notice and avoid possible confusion. Accordingly, the Postal Service makes the following revisions effective immediately.

List of Subjects

39 CFR Part 265

Administrative practice and procedure, Courts, Freedom of information, Government employees.

39 CFR Part 266

Privacy.

PART 265—[AMENDED]

1. The authority citation for part 265 continues to read as follows:

Authority: 5 U.S.C. 552; 5 U.S.C. App. 3; 39 U.S.C. 401, 403, 410, 1001, 2601.

§ 265.6 [Amended]

2. Amend § 265.6 as follows:

(a) In paragraph (d)(1), remove the last sentence.

(b) Revise paragraph (d)(5)(i) to read as set forth below;

(c) In paragraph (d)(7), remove “or if the request has been sent to the wrong post office,” in the last sentence.

(d) In paragraph (d)(9)(i), remove “(d)(8)(iii)” and insert “(d)(9)(iii)” in its place.

(e) Following paragraph (g) remove the exhibits and insert the two forms as set forth below:

§ 265.6 Availability of records.

* * * * *

(d) * * *

(5) * * *

(i) To a Federal, State or local government agency upon prior written certification that the information is required for the performance of its duties. The Postal Service requires government agencies to use the format appearing at the end of this section when requesting the verification of a customer's current address or a customer's new mailing address. If the request lacks any of the required information or a proper signature, the postmaster will return the request to the agency, specifying the deficiency in the space marked ‘OTHER’.

* * * * *

(g) * * *

BILLING CODE 7710-12-P

BILLING CODE 7710-12-C

§ 265.7 [Amended]

3. Amend § 265.7 as follows:

(a) In paragraph (a)(4), remove “(See § 265.8(g)(3).)” and insert “(See § 265.9(g)(3).)” in its place;

(b) Remove paragraph (d)(1)(iii) and redesignate paragraph (d)(1)(iv) as paragraph (d)(1)(iii).

§ 265.9 [Amended]

4. In § 265.9(g)(5), remove the sentence: “This waiver does not apply to fees for services performed in accordance with section 945 of the Domestic Mail Manual.”

§ 265.13 Compliance with subpoenas, summonses, and court orders by postal employees within the Inspection Service where the Postal Service, the United States, or any other Federal agency is not a party.

5. In § 265.13, revise paragraph (a)(4) to read as follows:

(a) * * *

(4) Employees serving as expert witnesses in connection with professional and consultative services under 5 CFR part 7001, provided that employees acting in this capacity must state for the record that their testimony reflects their personal opinions and should not be viewed as the official position of the Postal Service;

* * * * *

PART 266—[AMENDED]

6. The authority citation for part 266 continues to read as follows:

Authority: 5 U.S.C. 552a; 39 U.S.C. 401.

§ 266.5 [Amended]

7. Amend § 266.5 as follows:

(a) Revise paragraph (a) to read as set forth below:

(b) In paragraph (c), remove “(See § 266.7(b)(3)” and insert “(See § 266.6(c)(1)” in its place.

§ 265.5 Notification.

(a) Notification of Systems. Upon written request, the Postal Service will notify any individual whether a specific system named by the individual contains a record pertaining to him or her. See § 266.6 for suggested form of request.

* * * * *

§ 266.10 [Amended]

8. In § 266.10 (b), remove “20260-5202” and insert “20260” in its place.

Stanley F. Mires,
Chief Counsel, Legislative.

[FR Doc. 04-14135 Filed 6-22-04; 8:45 am]

BILLING CODE 7710-12-P